DEPARTMENT OF STATE

[Public Notice 4420]

Determination Pursuant to Section 2(b)(2) of the Migration and Refugee Assistance Act of 1962, as Amended

Pursuant to section 2(b)(2) of the Migration and Refugee Assistance Act of 1962, as amended, 22 U.S.C. 2601(b)(2), and the functions and authorities delegated to the Secretary of State, or his or her delegate, by Presidential Determination 99-6 of November 30, 1998, and subsequently redelegated to me by Delegation of Authority of January 5, 1999, I hereby designate migrants displaced from Côte d'Ivoire as qualifying for assistance under Section 2(b)(2) of that Act, and determine that such assistance will contribute to the foreign policy interests of the United States.

This determination shall be transmitted to the President and published in the Federal Register.

Dated: July 22, 2003.
Richard L. Greene,
Acting Assistant Secretary of State, Bureau of Population, Refugees, and Migration, Department of State.

[FR Doc. 03-19107 Filed 7-25-03; 8:45 am]

BILLING CODE 4710-33-P